FEDERAL MARITIME COMMISSION

[Petition No. P3-02]

Petition of the Association of Bi-State Motor Carriers, Inc. to Investigate Truck Detention Practices of the New York Terminal Conference at the New York/New Jersey Port District; Notice of Filing and Request for Comments

Notice is hereby given that on November 18, 2002, the Association of Bi-State Motor Carriers, Inc. (“Petitioner”) filed a Petition seeking an investigation under section 11(c) of the Shipping Act of 1984 (“Shipping Act”) of certain activities in the New York/New Jersey Port District.

The Petitioner asks the Commission to determine whether the truck detention practices and tariff regulations of the marine terminal operator (“MTO”) members of the New York Terminal Conference (“NYTC”) ¹ constitute unjust and unreasonable practices and regulations in violation of Section 10(d)(1) of the Shipping Act. In support of its request, Petitioner asserts that NYTC and its members are causing port congestion and delay by manipulating entry through the terminal gate or point of processing. Petitioner claims that this manipulation causes congestion and adds to the delay in picking up and delivering containers. Petitioner claims further that NYTC and its members' practices contribute to excessive “queue waiting time” outside of the terminal gate and that NYTC and its members are not compensating Petitioner's members for the cost associated with this delay and the delays occurring within the terminal. Moreover, Petitioner claims that the NYTC and its members have established excessive free time provisions in their tariff to avoid paying detention penalties to Petitioner's members. In this regard, Petitioner points out that the terminals require trucks to use offsite chassis depots or other offsite facilities, spending time that is excluded from the truck detention calculus. Finally, Petitioner claims that the NYTC members retaliated against its members after a successful arbitration by modifying their tariff in such a way as to prevent reasonable detention penalties from being paid.

¹ American Stevedoring, Inc.; Port Newark Container Terminal; and Universal Maritime Service Corp.

Petitioner asserts that the foregoing results in its members being responsible for the excessive cost of doing business at the Port, both in terms of lost time and financial losses. In this regard, Petitioner states that the excessive delay caused to trucks awaiting access to containers and equipment causes inordinate delay in the delivery of cargo and that these costs are passed along to the shipping public or absorbed by trucking companies.

Petitioner asks the Commission to investigate these practices under section 11(c) of the Shipping Act. If violations are found, Petitioner asks the Commission to order NYTC to modify its tariff to: include a reasonable calculation that captures “queue waiting time;” and remove the excessive free time provisions and establish reasonable provisions that address the specific concerns set forth in the Petition such as, roadability issues and exclusions that exempt time spent due to lack of equipment or maintenance and repair. Petitioner also seeks an order directing NYTC to cease and desist from its practices of tendering defective equipment.

The Petition was filed under Rule 69 of the Commission's rules of practice and procedure, 46 CFR 502.69, and states that it was served on the parties named therein. The parties named in the Petition are entitled to file a reply pursuant 46 CFR 502.69 and 502.74. In order for the Commission to make a thorough evaluation of the Petition, the Commission is also inviting interested persons to submit their comments on the Petition. Replies to the Petition and any comments are due no later than December 20, 2002. Comments shall consist of an original and 15 copies, or, if e-mailed, as an attachment in WordPerfect 8, Microsoft Word 97, or earlier versions of these applications; be directed to the Secretary, Federal Maritime Commission, 800 North Capitol Street, NW., Washington, DC 20573-0001 (e-mail to: Secretary@fmc.gov and include a reference to the docket number in the subject field); and be served on Petitioner's counsel: Carlos Rodriguez and Usbaldo Angel, Rodriguez O'Donnell Ross Fuerst Gonzalez & Williams, 1211 Connecticut Avenue, NW., Suite 812, Washington, DC 20036.

Copies of the Petition are available at the Office of the Secretary of the Commission, 800 N. Capitol Street, NW., Room 1046, by telephone request at 202-523-5725, or through e-mail request directed to Secretary@fmc.gov.

Parties participating in this proceeding may elect to receive service of the Commission's issuances in this proceeding through e-mail in lieu of service by U.S. mail. A party opting for electronic service shall advise the Office of the Secretary in writing and provide an e-mail address where service can be made.

Bryant L. VanBrakle,
Secretary.

[FR Doc. 02-29981 Filed 11-25-02; 8:45 am]

BILLING CODE 6730-01-P